DEPARTMENT OF VETERANS AFFAIRS

National Research Advisory Council; Notice of Meeting

The Department of Veterans Affairs (VA) gives notice under the Federal Advisory Committee Act, 5 U.S.C., App. 2, that the National Research Advisory Council will hold a meeting on Thursday, September 12, 2013, in Conference Room 23 at 131 M Street NE., Washington, DC. The meeting will convene at 9:30 a.m. and end at 3:30 p.m.

The purpose of the Council is to provide external advice and review for VA's research mission. The Council reviews the VA research portfolio and a summary of special projects. In the morning, the Committee will convene an open session to hear from the Committee Chair and VA Acting Chief Research and Development Officer. The Committee will convene a closed session from 9:45 a.m. to noon to discuss optimizing oversight of the Human Subjects Research Protection Programs. Closing portions of this meeting is in accordance with 5 U.S.C. 552b(c)(4) which allows a closed meeting where the agency determines that the portion of its meeting is likely to disclose trade secrets and commercial or financial information obtained from a person and privileged or confidential. The Committee will reconvene in open session from noon to 3:30 p.m. to receive briefings on Technology Transfer and Communications Plan.

No time will be allocated at this meeting for receiving oral presentations from the public. However, interested members of the public may submit written statements for the Council's review to Pauline Cilladi-Rehrer, Designated Federal Officer, Office of Research and Development (10P9), Department of Veterans Affairs, 810 Vermont Avenue NW., Washington, DC 20420, or by email at pauline.cilladi-rehrer@va.gov. Because the meeting is being held in a government building, a photo I.D. must be presented at the Guard's Desk as a part of the clearance process. Therefore, you should allow an additional 15 minutes before the meeting begins. Any member of the public wishing further information should contact Ms. Cilladi-Rehrer at (202) 443-5607.

Dated: August 29, 2013.
By direction of the Secretary.
Vivian Drake,
Committee Management Officer.

[FR Doc. 2013-21528 Filed 9-4-13; 8:45 am]

BILLING CODE P